FEDERAL HOUSING FINANCE BOARD

[No. 2003-N-2]

Federal Home Loan Bank Members Selected for Community Support Review

AGENCY: Federal Housing Finance Board.

ACTION: Notice.

SUMMARY: The Federal Housing Finance Board (Finance Board) is announcing the Federal Home Loan Bank (Bank) members it has selected for the 2002-03 fourth quarter review cycle under the Finance Board's community support requirement regulation. This notice also prescribes the deadline by which Bank members selected for review must submit Community Support Statements to the Finance Board.

DATES: Bank members selected for the 2002-03 fourth quarter review cycle under the Finance Board's community support requirement regulation must submit completed Community Support Statements to the Finance Board on or before March 3, 2003.

ADDRESSES: Bank members selected for the 2002-03 fourth quarter review cycle under the Finance Board's community support requirement regulation must submit completed Community Support Statements to the Finance Board either by regular mail at the Office of Supervision, Community Investment & Affordable Housing, Federal Housing Finance Board, 1777 F Street, NW., Washington, DC 20006, or by electronic mail at FITZGERALDE@FHFB.GOV.

FOR FURTHER INFORMATION CONTACT: Emma J. Fitzgerald, Program Analyst, Office of Supervision, Community Investment & Affordable Housing, by telephone at (202) 408-2874, by electronic mail at FITZGERALDE@FHFB.GOV, or by regular mail at the Federal Housing Finance Board, 1777 F Street, NW., Washington, DC 20006. A telecommunications device for deaf persons (TDD) is available at (202) 408-2579.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to the requirements of section 10(g) of the Bank Act, the Finance Board has promulgated a community support requirement regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the March 3, 2003 deadline prescribed in this notice. 12 CFR 944.2(b)(1)(ii) and (c). On or before January 31, 2003, each Bank will notify the members in its district that have been selected for the 2002-03 fourth quarter community support review cycle that they must complete and submit to the Finance Board by the deadline a Community Support Statement. 12 CFR 944.2(b)(2)(i). The member's Bank will provide a blank Community Support Statement Form, which also is available on the Finance Board's Web site: WWW.FHFB.GOV. Upon request, the member's Bank also will provide assistance in completing the Community Support Statement.

The Finance Board has selected the following members for the 2002-03 fourth quarter community support review cycle:

Federal Home Loan Bank of Boston—District 1

Union Savings Bank, Danbury, Connecticut

Jewett City Savings Bank, Jewett City, Connecticut

The First National Bank of Litchfield, Litchfield, Connecticut

Naugatuck Valley Savings and Loan Association, Inc., Naugatuck, Connecticut

New Haven Savings Bank, New Haven, Connecticut

Newtown Savings Bank, Newtown, Connecticut

Fairfield County Savings Bank, Norwalk, Connecticut

Ridgefield Bank, Ridgefield, Connecticut

Cornerstone Bank, Stamford, Connecticut

First County Bank, Stamford, Connecticut

Patriot National Bank, Stamford, Connecticut

Dutch Point Credit Union, Wethersfield, Connecticut

Windsor Locks Federal Credit Union, Windsor Locks, Connecticut

Bangor Federal Credit Union, Bangor, Maine

Bangor Savings Bank, Bangor, Maine

Bar Harbor Savings and Loan Association, Bar Harbor, Maine

Northeast Bank FSB, Lewiston, Maine

First Citizens Bank, N.A., Presque Isle, Maine

York County Federal Credit Union, Sanford, Maine

South Adams Savings Bank, Adams, Massachusetts

Athol Credit Union, Athol, Massachusetts

Barre Savings Bank, Barre, Massachusetts

Taupa Lithuanian Federal Credit Union, Boston, Massachusetts

Horizon Bank and Trust Company, Braintree, Massachusetts

Cambridgeport Bank, Brighton, Massachusetts

Crescent Credit Union, Brockton, Massachusetts

Brookline Savings Bank, FSB, Brookline, Massachusetts

Boston Federal Savings Bank, Burlington, Massachusetts

Cambridge Trust Company, Cambridge, Massachusetts

North Cambridge Co-operative Bank, Cambridge, Massachusetts

Canton Cooperative Bank, Canton, Massachusetts

Meetinghouse Co-operative Bank, Dorchester, Massachusetts

The Edgartown National Bank, Edgartown, Massachusetts

Fidelity Cooperative Bank, Fitchburg, Massachusetts

Fitchburg Savings Bank, FSB, Fitchburg, Massachusetts

Greenfield Co-operative Bank, Greenfield, Massachusetts

Haverhill Co-operative Bank, Haverhill, Massachusetts

Hyde Park Cooperative Bank, Hyde Park, Massachusetts

Ipswich Co-operative Bank, Ipswich, Massachusetts

Leominster Credit Union, Leominster, Massachusetts

Lowell Co-operative Bank, Lowell, Massachusetts

Marlborough Savings Bank, Marlborough, Massachusetts

The Milford National Bank and Trust Company, Milford, Massachusetts

Natick Federal Savings Bank, Natick, Massachusetts

Institution for Savings, Newburyport, Massachusetts

North Abington Co-operative Bank, North Abington, Massachusetts

Rockland Federal Credit Union, Rockland, Massachusetts

South Coastal Bank, Rockland, Massachusetts

Heritage Co-operative Bank, Salem, Massachusetts

Salem Five Cents Savings Bank, Salem, Massachusetts

Southbridge Credit Union, Southbridge, Massachusetts

Stoneham Savings Bank, Stoneham, Massachusetts

First Federal Savings Bank of America, Swansea, Massachusetts

Country Bank for Savings, Ware, Massachusetts

Wellesley Co-operative Bank, Wellesley, Massachusetts

South Shore Co-operative Bank, Weymouth, Massachusetts

Winchester Co-operative Bank, Winchester, Massachusetts

Bay State Savings Bank, Worcester, Massachusetts

Cape Cod Cooperative Bank, Yarmouth Port, Massachusetts

Centrix Bank and Trust, Bedford, New Hampshire

The Berlin City Bank, Berlin, New Hampshire

Village Bank & Trust Company, Gilford, New Hampshire

Granite Bank, Keene, New Hampshire

Lancaster National Bank, Lancaster, New Hampshire

Holy Rosary Regional Credit Union, Rochester, New Hampshire

Profile Bank, FSB, Rochester, New Hampshire

Bank of Newport, Newport, Rhode Island

Citizens Bank of Rhode Island, Providence, Rhode Island

Greenwood Credit Union, Warwick, Rhode Island

Westerly Savings Bank, Westerly, Rhode Island

Brattleboro Savings & Loan Association, FA, Brattleboro, Vermont

Lyndonville Savings Bank & Trust Company, Lyndonville, Vermont

First Community Bank, Woodstock, Vermont

Federal Home Loan Bank of New York—District 2

Cape Savings Bank, Cape May Court House, New Jersey

United Roosevelt Savings Bank, Carteret, New Jersey

Commerce Bank, N.A., Cherry Hill, New Jersey

Unity Bank, Clinton, New Jersey

1st Constitution Bank, Cranbury, New Jersey

Delanco Federal Savings Bank, Delanco, New Jersey

Pinnacle Federal Credit Union, Edison, New Jersey

Columbia Bank, Fair Lawn, New Jersey

Haven Savings Bank, Hoboken, New Jersey

National Union Bank of Kinderhook, Kinderhook, New Jersey

Manasquan Savings Bank, Manasquan, New Jersey

Equity Bank NA, Marlton, New Jersey

West Essex Bank, Pinebrook, New Jersey

1st Bank of Sea Isle City, Sea Isle City, New Jersey

Somerset Valley Bank, Somerville, New Jersey

Union Center National Bank, Union, New Jersey

Wawel Savings Bank, SLA. Wallington, New Jersey

Crest Savings Bank, Wildwood, New Jersey

Bridgehampton National Bank, Bridgehampton, New York

Atlas Savings and Loan Association, Brooklyn, New York

Visions Federal Credit Union, Endicott, New York

Tompkins Trust Company, Ithaca, New York

Mid-Hudson Valley Federal Credit Union, Kingston, New York

Medina Savings & Loan Association, Medina, New York

Emigrant Savings Bank, New York, New York

Greenpoint Bank, New York, New York

Isreal Discount Bank of New York, New York, New York

NBT Bank, N.A., Norwich, New York

The Oneida Savings Bank, Oneida, New York

The Suffolk County National Bank, Riverhead, New York

Adirondack Bank, N.A., Saranac Lake, New York

Sawyer Savings Bank, Saugerties, New York

Bank of Smithtown, Smithtown, New York

Walden Federal Savings and Loan Association, Walden, New York

Fourth Federal Savings Bank, White Plains, New York

First Central Savings Bank, Whitestone, New York

City & Suburban Federal Savings Bank, Yonkers, New York

Westernbank Puerto Rico, Mayaguez, Puerto Rico

Banco Bilbao Vizcaya Argentaria Puerto Rico, San Juan, Puerto Rico

Federal Home Loan Bank of Pittsburgh—District 3

Christiana Bank & Trust Company, Greenville, Delaware

ING Bank, F.S.B., Wilmington, Delaware

First National Bank of Wyoming, Wyoming, Delaware

American Bank, Allentown, Pennsylvania

Iron Workers Savings Bank, Aston, Pennsylvania

Brentwood Bank, Bethel Park, Pennsylvania

Madison Bank, Blue Bell, Pennsylvania

National Penn Bank, Boyertown, Pennsylvania

Union Building and Loan Savings Bank, Bridgewater, Pennsylvania

Community Bank and Trust Company, Clarks Summit, Pennsylvania

Clearfield Bank & Trust Company, Clearfield, Pennsylvania

First Financial Savings Bank, Downingtown, Pennsylvania

Suburban Community Bank, Feasterville, Pennsylvania

Vartan National Bank, Harrisburg, Pennsylvania

The Dime Bank, Honesdale, Pennsylvania

Indiana First Savings Bank, Indiana, Pennsylvania

Jim Thorpe National Bank, Jim Thorpe, Pennsylvania

FirstService Bank, Lansdale, Pennsylvania

Manor National Bank, Manor, Pennsylvania

Province Bank, FSB, Marietta, Pennsylvania

First National Bank of Marysville, Marysville, Pennsylvania

Standard Bank, PaSB, Monroeville, Pennsylvania

Commonwealth Bank, Norristown, Pennsylvania

American Heritage Federal Credit Union, Philadelphia, Pennsylvania

Commerce Bank Pennsylvania NA, Philadelphia, Pennsylvania

Philadelphia Trust Company, Philadelphia, Pennsylvania

Roxborough Manayunk Bank, Philadelphia, Pennsylvania

SB1 Federal Credit Union, Philadelphia, Pennsylvania

New Century Bank, Phoenixville, Pennsylvania

Allegheny Valley Bank of Pittsburgh, Pittsburgh, Pennsylvania

Mt. Troy Savings Bank, FSB, Pittsburgh, Pennsylvania

PNC Bank, NA, Pittsburgh, Pennsylvania

Schuylkill Savings & Loan Association, Schuylkill Haven, Pennsylvania

Somerset Trust Company, Somerset, Pennsylvania

Omega Bank, N.A., State College, Pennsylvania

Mechanics Savings Bank, Steelton, Pennsylvania

First County Bank, Warrington, Pennsylvania

Guard Security Bank, Wilkes-Barre, Pennsylvania

Compass Federal Savings Bank, Wilmerding, Pennsylvania

Sovereign Bank, FSB, Wyomissing, Pennsylvania

Capital State Bank, Charleston, West Virginia

Hancock County Savings Bank FSB, Chester, West Virginia

Citizens National Bank of Elkins, Elkins, West Virginia

Monongahela Valley Bank, Inc., Fairmont, West Virginia

Fayette County National Bank, Fayetteville, West Virginia

Rock Branch Community Bank, Nitro, West Virginia

The Bank of Romney, Romney, West Virginia

Traders Bank, Spencer, West Virginia

Progressive Bank, Wheeling, West Virginia

Federal Home Loan Bank of Atlanta—District 4

Alabama Central Credit Union, Birmingham, Alabama

America's First Federal Credit Union, Birmingham, Alabama

Citizens Federal Savings Bank, Birmingham, Alabama

First Educators Credit Union, Birmingham, Alabama

Sloss Federal Credit Union, Birmingham, Alabama

SouthTrust Bank, Birmingham, Alabama

First Bank of Boaz, Boaz, Alabama

Town-Country National Bank, Camden, Alabama

Coosa Pines Federal Credit Union, Childersburg, Alabama

Heritage Bank, Decatur, Alabama

Escambia County Bank, Flomaton, Alabama

First Federal Bank, Fort Payne, Alabama

Traders and Farmers Bank, Haleyville, Alabama

City Bank of Hartford, Hartford, Alabama

First National Bank of Jasper, Jasper, Alabama

Pinnacle Bank, Jasper, Alabama

Marion Bank and Trust Company, Marion, Alabama

Merchants & Farmers Bank, Millport, Alabama

Farmers and Merchants Bank, Piedmont, Alabama

Bank of Pine Hill, Pine Hill, Alabama

Alabama Credit Union, Tuscaloosa, Alabama

First Federal Bank, A Federal Savings Bank, Tuscaloosa, Alabama

Alabama Exchange Bank, Tuskegee, Alabama

AmeriFirst Bank, Union Springs, Alabama

Small Town Bank, Wedowee, Alabama

Bank of York, York, Alabama

Department of Veterans Affairs FCU, Washington, D.C.

Independence Federal Savings Bank, Washington, D.C.

Community National Bank of Bartow, Bartow, Florida

First Southern Bank, Boca Raton, Florida

Platinum Bank, Brandon, Florida

Citizens and Peoples Bank, N.A., Cantonment, Florida

Crown Bank, A Federal Savings Bank, Casselberry, Florida

First National Bank of Nassau County, Fernandian Beach, Florida

Harbor Federal Savings Bank, Fort Pierce, Florida

Citizens Bank of Frostproof, Frostproof, Florida

Millennium Bank, Gainesville, Florida

Homosassa Springs Bank, Homosassa Springs, Florida

The Jacksonville Bank, Jacksonville, Florida

Columbia County Bank, Lake City, Florida

Premier Community Bank of Florida, Largo, Florida

City National Bank of Florida, Miami, Florida

Intercredit Bank, N.A, Miami, Florida

Interamerican Bank, a Federal Savings Bank, Miami, Florida

Metro Bank of Dade County, Miami, Florida

Northern Trust Bank of Florida, N.A., Miami, Florida

Pacific National Bank, Miami, Florida

Farmers and Merchants Bank, Monticello, Florida

The First National Bank of Mount Dora, Mount Dora, Florida

Citizens National Bank of S.W. Florida, Naples, Florida

Fairwinds Credit Union, Orlando, Florida

First Commercial Bank of Florida, Orlando, Florida

Southern Community Bank, Orlando, Florida

Lydian Private Bank, Palm Beach Gardens, Florida

Union Bank of Florida, Plantation, Florida

GulfStream Community Bank, Port Richey, Florida

First Peoples Bank, Port St. Lucie, Florida

Community Educators Credit Union of Brevard, Rockledge, Florida

Suncoast National Bank, Sarasota, Florida

Public Bank, St. Cloud, Florida

Cornerstone Community Bank, St. Petersburg, Florida

First Community Bank of America, St. Petersburg, Florida

GTE Federal Credit Union, Tampa, Florida

The Terrace Bank of Florida, Tampa, Florida

Valrico State Bank, Valrico Florida

Premier Community Bank, Venice Florida

Fidelity Federal Bank & Trust, West Palm Beach, Florida

Grand Bank & Trust of Florida, West Palm Beach, Florida

The Perkins State Bank, Williston, Florida

Albany Bank and Trust, Albany, Georgia

Bank of North Georgia, Alpharetta, Georgia

North Atlanta National, Bank, Alpharetta, Georgia

Sun Trust Bank, Atlanta, Atlanta, Georgia

United Americas Bank, NA, Atlanta, Georgia

First Port City Bank, Bainbridge, Georgia

Peoples State Bank and Trust, Baxley, Georgia

The Coastal Bank of Georgia, Brunswick, Georgia

Peoples Bank of West Georgia, Carrollton, Georgia

West Georgia National, Bank Carrollton,Georgia

Unity National, Bank, Cartersville, Georgia

Tippins Bank and Trust Company, Claxton, Georgia

Liberty National Bank, Conyers, Georgia

The Citizens Bank of Forsyth County, Cumming, Georgia

Alliance National Bank, Dalton, Georgia

Dalton Whitfield Bank, Dalton, Georgia

First Bank of Dalton, Dalton, Georgia

Decatur First Bank, Decatur, Georgia

Farmers and Merchants Bank, Dublin, Georgia

The Peachtree Bank, Duluth, Georgia

The Bank of Edison, Edison, Georgia

Colony Bank of Fitzgerald, Fitzgerald, Georgia

Community Banking Co. of Fitzgerald, Fitzgerald, Georgia

Farmers State Bank, Lumpkin, Georgia

F&M Bank and Trust Company, Manchester, Georgia

Riverside Bank, Marietta, Georgia

Southern National Bank, Marietta, Georgia

The Security State Bank, McRae, Georgia

First Bank of Coastal Georgia, Pembroke, Georgia

First Peoples Bank, Pine Mountain, Georgia

Colony Bank Quitman, FSB, Quitman, Georgia

Citizens Bank of Washington County, Sandersville, Georgia

Bank of Hancock County, Sparta, Georgia

Eagle National Bank, Stockbridge, Georgia

First National Bank of Johns Creek, Suwancee, Georgia

Colony Bank Worth, Sylvester, Georgia

Thomas County FS&LA, Thomasville, Georgia

Stephens Federal Bank, Toccoa, Georgia

Bank of Dade, Trenton, Georgia

Mountain National Bank, Tucker, Georgia

Altamaha Bank and Trust Company, Uvalda, Georgia

Commercial Banking Company, Valdosta, Georgia

Darby Bank and Trust Company, Vidalia, Georgia

Vidalia Federal Savings and LA, Vidalia, Georgia

Bank of Dooly, Vienna, Georgia

The Peoples Bank of Willacoochee, Willacoochee, Georgia

The Peoples Bank, Winder, Georgia

Talbot State Bank, Woodland, Georgia

Hartford National Bank, Aberdeen, Maryland

Arundel Federal Savings Bank, Baltimore, Maryland

Chesapeake Bank of Maryland, Baltimore, Maryland

Fairmount Federal Savings Bank, Baltimore, Maryland

Golden Prague Federal FS&LA, Baltimore, Maryland

Hopkins Federal Savings Bank, Baltimore, Maryland

Madison Square Federal Savings Bank, Baltimore, Maryland

Municipal Employees CU of Baltimore, Baltimore, Maryland

Parkville Federal Savings Bank, Baltimore, Maryland

Rosedale Federal Savings & LA, Baltimore, Maryland

Westview Savings Bank, Baltimore, Maryland

Bay Net, A Community Bank, Bel Air, Maryland

Chevy Chase Bank, Bethesda, Maryland

Marriott Employees FCU, Bethesda, Maryland

The Washington Savings Bank, F.S.B., Bowie, Maryland

The National Bank of Cambridge, Cambridge, Maryland

U.S. Postal Service Credit Union, Clinton, Maryland

The Bank of Delmarva, N.A., Delmar, Maryland

The Patapsco Bank, Dundalk, Maryland

Farmers and Mechanics National Bank, Frederick, Maryland

Montgomery County Teachers FCU, Gaithersburg, Maryland

OBA Federal Savings Bank, Gaithersburg, Maryland

Suburban Federal Savings Bank, Crofton, Maryland

Library of Congress FCU, Lanham, Maryland

Maryland Permanent Bank and Trust, Owings Mills, Maryland

National Institute of Health FCU, Rockville, Maryland

Senator Savings Bank, FSB, Towson, Maryland

Community Bank of Tri-County, Waldorf, Maryland

Woodsboro Bank, Woodsboro, Maryland

Asheville Savings Bank, Asheville, North Carolina

The Bank of Asheville, Asheville, North Carolina

First State Bank, Burlington, North Carolina

Crescent State Bank, Cary, North Carolina

Charlotte Metro Credit Union, Charlotte, North Carolina

First Trust Bank, Charlotte, North Carolina

Sharonview Federal Credit Union, Charlotte, North Carolina

Cherryville Federal S&L Association, Cherryville, North Carolina

First Federal Savings Bank, Dunn, North Carolina

Mutual Community SB, SSB, Durham, North Carolina

Seymour Johnson Federal Credit Union, Goldsboro, North Carolina

First Federal Savings Bank, Lincolnton, North Carolina

Progressive Savings Bank, Lumberton, North Carolina

Mooresville Savings Bank, SSB, Mooresville, North Carolina

Lumbee Guaranty Bank, Pembroke, North Carolina

North Carolina Local Government Employees, Raleigh, North Carolina

Paragon Commercial Bank, Raleigh, North Carolina

Roanoke Valley Savings Bank, SSB, Roanoke Rapids, North Carolina

Roxboro Savings Bank, SSB, Roxboro, North Carolina

First South Bank, Washington, North Carolina

WNC Community Credit Union, Waynesville, North Carolina

Truliant Federal Credit Union, Winston-Salem, North Carolina

Abbeville Savings and LA, Abbeville, South Carolina

The Bank of Abbeville, Abbeville, South Carolina

South Carolina Federal Credit Union, North Charleston, South Carolina

First Federal Savings and LA, Cheraw, South Carolina

The Conway National Bank, Conway, South Carolina

First Piedmont FS&LA, Gaffney, South Carolina

First Savers Bank, Greenville, South Carolina

S.C. Telco Federal Credit Union, Greenville, South Carolina

Citizens Building and Loan Association, Greer, South Carolina

Mutual Savings Bank, Hartsville, South Carolina

Atlantic Savings Bank, FSB, Hilton Head Island, South Carolina

The Commercial Bank, Honea Path, South Carolina

Founders Federal Credit Union, Lancaster, South Carolina

First Community Bank, N.A., Lexington, South Carolina

Pee Dee Federal Savings Bank, Marion, South Carolina

Coastal Federal Bank, Myrtle Beach, South Carolina

Family Trust Federal Credit Union, Rock Hill, South Carolina

Oconee Federal S&LA, Seneca, South Carolina

Seneca National Bank, Seneca, South Carolina

New Commerce Bank, NA, Greenville, South Carolina

Community First Bank, Walhalla, South Carolina

Bank of Walterboro, Walterboro, South Carolina

First Federal of South Carolina, FSB, Walterboro, South Carolina

James Monroe Bank, Arlington,Virginia

Citizens Bank and Trust Company, Blackstone, Virginia

First Community Bank, N.A., Bluefield, Virginia

Albemarle First Bank, Charlottesville, Virginia

Monarch Bank, Chesapeake, Virginia

Alliance Bank Corporation, Fairfax, Virginia

Cardinal Bank, N.A., Fairfax, Virginia

Acacia Federal Savings Bank, Falls Church, Virginia

First Virginia Bank, Falls Church, Virginia

Virginia Savings Bank, F.S.B., Front Royal, Virginia

Virginia Community Bank, Louisa, Virginia

Community First Bank, Lynchburg, Virginia

First Federal S&LA, Martinsville, Virginia

Community Bankers' Bank, Midlothian, Virginia

Harbor Bank, Newport News, Virginia

Newport News Shipbuilding Employees Credit Union, Inc., Newport News, Virginia

1st Advantage FCU, Newport News, Virginia

Essex Savings Bank, F.S.B., Norfolk, Virginia

TowneBank, Portsmouth, Virginia

Community National Bank, Pulaski, Virginia

Millennium Bank, N.A. Reston, Virginia

Richmond Federal Credit Union, Richmond, Virginia

First-Citizens Bank, a Virginia Corp., Roanoke, Virginia

Shenandoah Life Insurance Company, Roanoke, Virginia

Bank of Tazewell County, Tazewell, Virginia

Approved Federal Savings Bank, Virginia Beach, Virginia

Shenandoah Valley National Bank, Winchester, Virginia

Fort Belvoir Federal Credit Union, Woodbridge, Virginia

Federal Home Loan Bank, of Cincinnati—District 5

Home Federal Savings and Loan Association of Ashland, Ashland, Kentucky

Bank of Buffalo, Buffalo, Kentucky

The First National Bank of Columbia, Columbia, Kentucky

Kentucky Federal Savings and Loan Association, Covington, Kentucky

Fort Campbell Federal Credit Union, Fort Campbell, Kentucky

First National Bank of Northern Kentucky, Ft. Mitchell, Kentucky

South Central Bank of Barre, Glasgow, Kentucky

Greensburg Deposit Bank and Trust Company, Greensburg, Kentucky

First Security Bank of Lexington, Lexington, Kentucky

The Casey County Bank, Liberty, Kentucky

Independence Bank, Livermore, Kentucky

Laurel National Bank, London, Kentucky

Commonwealth Bank and Trust Company, Louisville, Kentucky

Louisville Community Development Bank, Louisville, Kentucky

PRP National Bank, Louisville, Kentucky

Home Savings Bank, fsb, Ludlow, Kentucky

Community First Bank, Madisonville, Kentucky

First Guaranty Bank, Martin, Kentucky

Bank of Maysville, Maysville, Kentucky

Hart County Bank and Trust Company, Munfordville, Kentucky

The Farmers Bank, Nicholasville, Kentucky

First Security Bank of Owensboro, Owensboro, Kentucky

Owingsville Banking Company, Owingsville, Kentucky

Family Bank, FSB, Paintsville, Kentucky

Community Trust Bank, National Association, Pikeville, Kentucky

Madison Bank, Richmond, Kentucky

Cumberland Security Bank, Somerset, Kentucky

Citizens National Bank, Somerset, Kentucky

Commercial Bank, West Liberty, Kentucky

The Antwerp Exchange Bank Company, Antwerp, Ohio

Hocking Valley Bank, Athens, Ohio

Rockhold Brown and Company Bank, Bainbridge, Ohio

Citizens Federal Savings and Loan Association of Bellefontaine, Bellefontaine, Ohio

The Citizens Bank Company, Beverly, Ohio

Castalia Banking Company, Castalia, Ohio

Mercer Savings Bank, Celina, Ohio

The Cheviot Building and Loan Company, Cheviot, Ohio

Cincinnati Federal Savings and Loan Association, Cincinnati, Ohio

Cincinnati Police Federal Credit Union, Cincinnati, Ohio

Kemba Cincinnati Credit Union, Cincinnati, Ohio

The North Side Bank and Trust Company, Cincinnati, Ohio

National City Bank, Cleveland, Ohio

Ohio Savings Bank, Cleveland, Ohio

The Home Loan Savings Bank, Coshocton, Ohio

The Covington Savings and Loan Association, Covington, Ohio

The Citizens Bank of De Graff, De Graff, Ohio

Employees Own Federal Credit Union, Defiance, Ohio

The Delaware County Bank & Trust Company, Delaware, Ohio

The Northern Savings and Loan Company, Elyria, Ohio

The Genoa Savings and Loan Company, Genoa, Ohio

The First National Bank, Germantown, Ohio

Indian Village Community Bank, Gnadenhutten, Ohio

Chaco Credit Union, Hamilton, Ohio

The Hicksville Bank, Hicksville, Ohio

The Citizens Bank of Higginsport, Higginsport, Ohio

Salt Creek Valley Bank, Laurelville, Ohio

The Home Builders Association, Lynchburg, Ohio

The Bank of Magnolia Company, Magnolia, Ohio

The Citizens Savings Bank, Martins Ferry, Ohio

Peoples Building, Loan and Savings Company, Mason, Ohio

Western Reserve Bank, Medina, Ohio

Bramble Federal Savings & Loan Association of Cincinnati, Milford, Ohio

First Clermont Bank, Milford, Ohio

The Commercial & Savings Bank of Millersburg, Millersburg, Ohio

The Nelsonville Home and Savings Association, Nelsonville, Ohio

Peoples National Bank, New Lexington, Ohio

Geauga Savings Bank, Newbury, Ohio

The First National Bank of Pandora, Pandora, Ohio

Century Bank, F.S.B., Parma, Ohio

Farmers Bank and Savings Company, Pomeroy, Ohio

The St. Henry Bank, St. Henry, Ohio

The Arlington Bank, Upper Arlington, Ohio

The Commercial Savings Bank, Upper Sandusky, Ohio

The First Citizens NB of Upper Sandusky, Upper Sandusky, Ohio

The Versailles Savings and Loan Company, Versailles, Ohio

First National Bank of Waverly, Waverly, Ohio

Commerce National Bank, Worthington, Ohio

Spring Valley Bank, Wyoming, Ohio

The Home Savings and Loan Company, Youngstown, Ohio

Century National Bank, Zanesville, Ohio

Athens Federal Community Bank, Athens, Tennessee

Bells Banking Company, Bells, Tennessee

Benton Banking Company, Benton, Tennessee

Bank of Bolivar, Bolivar, Tennessee

Premier Bank of Brentwood, Brentwood, Tennessee

People's Bank and Trust Company of Picket County, Byrdstown, Tennessee

Bank of Camden, Camden, Tennessee

Tennessee Valley Federal Credit Union, Chattanooga, Tennessee

Legends Bank, Clarksville, Tennessee

BankTennessee, Collierville, Tennessee

Greenfield Banking Company, Greenfield, Tennessee

First Peoples Bank of Tennessee, Jefferson City, Tennessee

Lawrenceburg FS&LA, Lawrenceburg, Tennessee

First Central Bank, Lenoir City, Tennessee

Community National Bank, Lexington, Tennessee

Union Bank & Trust Company, Livingston, Tennessee

City of Memphis Credit Union, Memphis, Tennessee

EFS National Bank, Memphis, Tennessee

Farmers State Bank, Mountain City, Tennessee

Citizens Savings Bank & Trust Company, Nashville, Tennessee

Community Bank, Nashville, Tennessee

Tennessee Teachers Credit Union, Nashville, Tennessee

First Trust & Savings Bank, Oneida, Tennessee

The FNB of Oneida, Tennessee, Oneida, Tennessee

Citizens Bank and Trust Company of Grainger County, Rutledge, Tennessee

The Bank of Waynesboro, Waynesboro, Tennessee

Federal Home Loan Bank of Indianapolis—District 6

Knisley National Bank of Butler, Butler, Indiana

Heritage Bank & Trust Company, Darlington, Indiana

Elberfeld State Bank, Elberfeld, Indiana

Dana Federal Credit Union, Fort Wayne, Indiana

Mutual Savings Bank, Franklin, Indiana

First State Bank, Greenwood, Indiana

Bank Calumet National Association, Hammond, Indiana

First Federal S&L, Hammond, Indiana

Citizens First State Bank, Hartford City, Indiana

Central Indiana School Educators Credit Union, Indianapolis, Indiana

First Indiana Bank, a FSB, Indianapolis, Indiana

FORUM Credit Union, Indianapolis, Indiana

Meridian Security Insurance Company, Indianapolis, Indiana

The Lafayette Life Insurance Company, Lafayette, Indiana

Farmers State Bank, LaGrange, Indiana

Linden State Bank, Linden, Indiana

MFB Financial, Mishawaka, Indiana

St. Joseph Capital Bank, Mishawaka, Indiana

Hometown National Bank, New Albany, Indiana

West End Savings Bank, Richmond, Indiana

Scott County State Bank, Scottsburg, Indiana

Communitywide Federal Credit Union, South Bend, Indiana

Indiana State University Federal Credit Union, Terre Haute, Indiana

Steel Parts Federal Credit Union, Tipton, Indiana

Home Building Savings Bank, FSB, Washington, Indiana

Purdue Employees Federal Credit Union, West Lafayette, Indiana

The Randolph County Bank, Winchester, Indiana

TLC Community Credit Union, Adrian, Michigan

School Employees Credit Union, Bay City, Michigan

Brighton Commerce Bank, Brighton, Michigan

Macomb Community, Clinton Township, Michigan

Community Bank of Dearborn, Dearborn, Michigan

Dearborn Federal Credit Union, Dearborn, Michigan

Communicating Arts Credit Union, Detroit, Michigan

First Independence, Detroit, Michigan

Michigan State University FCU, East Lansing, Michigan

Northern Michigan, Escanaba, Michigan

MetroBank, Farmington Hills, Michigan

Citizens Bank, Flint, Michigan

Grand Haven Bank, Grand Haven, Michigan

Grand Rapids Teachers Credit Union, Grand Rapids, Michigan

Mercantile Bank, of West Michigan, Grand Rapids, Michigan

Northpointe Bank, Grand Rapids, Michigan

Old Kent Bank, Grand Rapids, Michigan

Greenville Community Bank, Greenville, Michigan

Mainstreet Savings Bank, FSB, Hastings, Michigan

The Bank of Holland, Holland, Michigan

Honor State Bank, Honor, Michigan

Ionia County National Bank, Ionia, Michigan

First National Bank of Iron Mountain, Iron Mountain, Michigan

Capital National Bank, Lansing, Michigan

E&A Credit Union, Marysville, Michigan

Mayville State Bank, Mayville, Michigan

Dow Chemical Employee Credit Union, Midland, Michigan

Wolverine Bank, FSB, Midland, Michigan

First General Credit Union, Muskegon, Michigan

Northland Area Federal Credit Union, Oscoda, Michigan

Port Austin State Bank, Port Austin, Michigan

Portage Commerce Bank, Portage, Michigan

Central Savings Bank, Sault Ste. Marie, Michigan

Sturgis Bank and Trust Company, Sturgis, Michigan

First Savings Bank, a Federal Savings Bank, Three Rivers, Michigan

Howmet Credit Union, Whitehall, Michigan

Macatawa Bank, Zeeland, Michigan

Federal Home Loan Bank of Chicago—District 7

Citizens National Bank of Albion, Albion, Illinois

GreatBank, Algonquin, Illinois

Farmers State Bank of Western Illinois, Alpha, Illinois

Anna National Bank, Anna, Illinois

Apple River State Bank, Apple River, Illinois

Arcola Homestead Savings Bank, Arcola, Illinois

The First National Bank of Arcola, Arcola, Illinois

First National Bank of Arenzville, Arenzville, Illinois

Ben Franklin Bank of Illinois, Arlington Heights, Illinois

First Northwest Bank, Arlington Heights, Illinois

State Bank of Ashland, Ashland, Illinois

Farmers State Bank Astoria, Astoria, Illinois

The Atlanta National Bank, Atlanta, Illinois

First State Bank, Atwood, Illinois

Bartonville Bank, Bartonville, Illinois

Scott State Bank, Bethany, Illinois

First State Bank of Bloomington, Bloomington, Illinois

Midland Federal Savings and Loan Association, Bridgeview, Illinois

First National Bank of Brookfield, Brookfield, Illinois

Farmers and Merchants State Bank of Bushnell, Bushnell, Illinois

Byron Bank, Byron, Illinois

First State Bank of Campbell Hill, Campbell Hill, Illinois

The Egyptian State Bank, Carrier Mills, Illinois

Carrollton Bank, Carrollton, Illinois

BankIllinois, Champaign, Illinois

University of Illinois Employees Credit Union, Champaign, Illinois

State Bank of Cherry, Cherry, Illinois

Bank of Chestnut, Chestnut, Illinois

American Metro Bank, Chicago, Illinois

Associated Bank, Chicago, Illinois

Chesterfield Federal Savings and Loan Association, Chicago, Illinois

Chicago Patrolmens Federal Credit Union, Chicago, Illinois

Hoyne Savings Bank, Chicago, Illinois

Loomis Federal Savings & Loan Association, Chicago, Illinois

Mid-City National Bank of Chicago, Chicago, Illinois

North Side FS&LA of Chicago, Chicago, Illinois

Seaway National Bank, Chicago, Illinois

Second Federal Savings and Loan Association of Chicago, Chicago, Illinois

Royal Savings Bank, Chicago, Illinois

United Airlines Employees' Credit Union, Chicago, Illinois

Heritage Bank, Chicago Heights, Illinois

Central Federal Savings and Loan Association, Cicero, Illinois

Mid America Bank, FSB, Clarendon Hills, Illinois

DeWitt Savings Bank, Clinton, Illinois

First Federal Bank, Colchester, Illinois

First Collinsville Bank, Collinsville, Illinois

Crystal Lake Bank & Trust Company, N.A., Crystal Lake, Illinois

Soy Capital Bank & Trust Company, Decatur, Illinois

Baxter Credit Union, Deerfield, Illinois

Castle Bank, N.A., DeKalb, Illinois

Delafield State Bank, Delafield, Illinois

Downers Grove National Bank, Downers Grove, Illinois

Dunlap State Bank, Dunlap, Illinois

Erie State Bank, Erie, Illinois

Community First Bank, Fairview Heights, Illinois

Bank of Farmington, Farmington, Illinois

First United Bank, Frankfort, Illinois

Galena State Bank & Trust Company, Galena, Illinois

Community State Bank, Galva, Illinois

Gifford State Bank, Gifford, Illinois

Howard Savings Bank, Glenview, Illinois

The Bank of Godfrey, Godfrey, Illinois

Guardian Savings Bank FSB, Granite City, Illinois

Hamel State Bank, Hamel, Illinois

Security State Bank of Hamilton, Hamilton, Illinois

Harvard Savings Bank, Harvard, Illinois

Mutual Bank, Harvey, Illinois

WestBank, Hillside, Illinois

Community Bank of Hopedale, Hopedale, Illinois

Joy State Bank, Joy, Illinois

First Trust Bank of Illinois, Kankakee, Illinois

First National Bank of LaGrange, LaGrange, Illinois

Cambridge Bank, Lake Zurich, Illinois

Exchange State Bank, Lanark, Illinois

The Lemont National Bank & Trust Company, Lemont, Illinois

State Bank of Lincoln, Lincoln, Illinois

Bank & Trust Company, Litchfield, Illinois

Union Bank/West, Macomb, Illinois

Malden State Bank, Malden, Illinois

Prairie State Bank, Marengo, Illinois

First National Bank of Marshall, Marshall, Illinois

Continental Community Bank, Maywood, Illinois

A.J. Smith Federal Savings Bank, Midlothian, Illinois

Southeast National Bank, Moline, Illinois

Marquette Bank Monmouth, Monmouth, Illinois

Security Savings Bank, Monmouth, Illinois

Farmers State Bank Chadwick & Mt. Carroll, Mt. Carroll, Illinois

Farmers State Bank and Trust Company, Mt. Sterling, Illinois

The First National Bank, Mulberry Grove, Illinois

Hawthorn Bank, Mundelein, Illinois

First County Bank, New Baden, Illinois

Warren-Boynton State Bank, New Berlin, Illinois

The Peoples State Bank of Newton, Newton, Illinois

The Old Exchange National Bank of Okawville, Okawville, Illinois

First Personal Bank, Orland Park, Illinois

Ottawa Savings Bank, Ottawa, Illinois

Peoples Bank & Trust, Pana, Illinois

State Bank of Paw Paw, Paw Paw, Illinois

Farmers-Merchants National Bank of Paxton, Paxton, Illinois

First Capital Bank, Peoria, Illinois

The Heights Bank, Peoria Heights, Illinois

Central State Bank, Pleasant Hill, Illinois

Pleasant Plains State Bank, Pleasant Plains, Illinois

Northwest Community Bank, Prospect Heights, Illinois

Town & Country Bank of Quincy, Quincy, Illinois

Western Catholic Union, Quincy, Illinois

Rantoul First Bank, S.B., Rantoul, Illinois

First National Bank of Raymond, Raymond, Illinois

First Ridge Farm State Bank, Ridge Farm, Illinois

Lincoln State Bank, S.B., Rochelle, Illinois

Community State Bank of Rock Falls, Rock Falls, Illinois

Associated Bank Illinois, Rockford, Illinois

Rushville State Bank, Rushville, Illinois

American Chartered Bank, Schaumburg, Illinois

AmericaUnited Bank & Trust Company USAS chaumburg, Illinois

First FS&LA of Shelbyville, IL, Shelbyville, Illinois

State Bank of Speer, Speer, Illinois

Illini Bank, Springfield, Illinois

Union Bank of Illinois, Swansea, Illinois

Tuscola National Bank, Tuscola, Illinois

Petefish, Skiles and Company Bank, Virginia, Illinois

Bank of Warrensburg, Warrensburg, Illinois

Western Springs National Bank and Trust, Western Springs, Illinois

First DuPage Bank, Westmont, Illinois

First National Bank of Winnebago, Winnebago, Illinois

State Bank Winslow-Warren, Winslow, Illinois

Wyoming Bank and Trust, Wyoming, Illinois

State Bank, Wonder Lake, Illinois

Keystone Community Bank, Kalamazoo, Michigan

The Portage County Bank, Almond, Wisconsin

Bay Bank, Ashwaubenon, Wisconsin

Pioneer Bank, Auburndale, Wisconsin

The First National Bank of Baldwin, Baldwin, Wisconsin

The First National Bank and Trust Co. of Baraboo, Baraboo, Wisconsin

Black River Country Bank, Black River Falls, Wisconsin

Bonduel State Bank, Bonduel, Wisconsin

Red Cedar Bank, National Association, Boyceville, Wisconsin

Bank of Cashton, Cashton, Wisconsin

Chetek State Bank, Chetek, Wisconsin

Dairyman's State Bank, Clintonville, Wisconsin

Farmers & Merchants Union Bank, Columbus, Wisconsin

Wisconsin Community Bank, Cottage Grove, Wisconsin

Cumberland Federal Bank, FSB, Cumberland, Wisconsin

Community Bank of Grafton, Grafton, Wisconsin

Highland State Bank, Highland, Wisconsin

Park Bank, Holmen, Wisconsin

Security State Bank, Iron River, Wisconsin

East Wisconsin Savings Bank, S.A., Kaukauna, Wisconsin

Greenwood's State Bank, Lake Mills, Wisconsin

Heartland Credit Union, Madison, Wisconsin

State Capitol Credit Union, Madison, Wisconsin

First National Bank—Fox Valley, Menasha, Wisconsin

First Bank & Trust, Menomonie, Wisconsin

Associated Bank South Central, Middleton, Wisconsin

Bank of Milton, Milton, Wisconsin

Milwaukee Western Bank, Milwaukee, Wisconsin

Mutual Savings Bank, Milwaukee, Wisconsin

St. Francis Bank, FSB, Milwaukee, Wisconsin

Universal Savings Bank, Milwaukee, Wisconsin

Associated Bank, N.A., Neenah, Wisconsin

Clare Bank, N.A., Platteville, Wisconsin

First National Bank of Platteville, Platteville, Wisconsin

Mound City Bank, Platteville, Wisconsin

The FNB of River Falls, River Falls, Wisconsin

Intercity State Bank, Schofield, Wisconsin

Community Bank & Trust, Sheboygan, Wisconsin

Bank of Sun Prairie, Sun Prairie, Wisconsin

Superior National Bank, Superior, Wisconsin

Shoreline Credit Union, Two Rivers, Wisconsin

The State Bank of Viroqua, Viroqua, Wisconsin

Walworth State Bank, Walworth, Wisconsin

First Federal Savings Bank of Wisconsin, Waukesha, Wisconsin

Sunset Bank and Savings, Waukesha, Wisconsin

KeySavings Bank, Wisconsin Rapids, Wisconsin

River Cities Bank, Wisconsin Rapids, Wisconsin

Wood County National Bank, Wisconsin Rapids, Wisconsin

Federal Home Loan Bank of Des Moines—District 8

Gateway Savings Bank, Ankeny, Iowa

Landmands National Bank, Audubon, Iowa

Community Bank of Boone, Boone, Iowa

Commercial Savings Bank, Carroll, Iowa

Iowa Savings Bank, Carroll, Iowa

Page County State Bank, Clarinda, Iowa

Linn County State Bank, Coggon, Iowa

Farmers Savings Bank, Colesburg, Iowa

Columbus Junction State Bank, Columbus Junction, Iowa

Okey Vernon First National Bank, Corning, Iowa

Corydon State Bank, Corydon, Iowa

Fortress Bank of Cresco, Cresco, Iowa

Alliant Credit Union, Dubuque, Iowa

Valley Bank, Eldridge, Iowa

First National Bank in Fairfield, Fairfield, Iowa

Farmers Savings Bank, Fostoria, Iowa

Grinnell Mutual Reinsurance Company, Grinnell, Iowa

Security State Bank, Hubbard, Iowa

Farmers State Bank, Jesup, Iowa

American Interstate Bank, Manning, Iowa

First State Bank of Mapleton, Mapleton, Iowa

Maxwell State Bank, Maxwell, Iowa

Bridge Community Bank, Mechanicsville, Iowa

State Bank and Trust Company, Nevada, Iowa

New Vienna Savings Bank, New Vienna, Iowa

First Newton National Bank, Newton, Iowa

First State Bank, Nora Springs, Iowa

Farmers State Bank, Northwood, Iowa

First National Bank of Oelwein, Oelwein, Iowa

City State Bank, Ogden, Iowa

American State Bank, Osceola, Iowa

Panora State Bank, Panora, Iowa

Marion County State Bank, Pella, Iowa

Perry State Bank, Perry, Iowa

Savings Bank, Primghar, Iowa

Readlyn Savings Bank, Readlyn, Iowa

Community Savings Bank, Robins, Iowa

Premier Bank, Rock Valley, Iowa

Home State Bank, Royal, Iowa

Iowa State Bank, Sac City, Iowa

Sanborn Savings Bank, Sanborn, Iowa

Community State Bank, Spencer, Iowa

The State Bank, Spirit Lake, Iowa

Union Bank & Trust Company, Strawberry Point, Iowa

State Bank of Toledo, Toledo, Iowa

Farmers Savings Bank, Walford, Iowa

Iowa State Bank, Wapello, Iowa

Washington Federal Savings Bank, Washington, Iowa

Security State Bank, Waverly, Iowa

State Bank of Waverly, Waverly, Iowa

First State Bank, Webster City, Iowa

Freedom Financial Bank, West Des Moines, Iowa

Westside State Savings Bank, Westside, Iowa

Farmers & Merchants State Bank, Winterset, Iowa

Union State Bank, Winterset, Iowa

First State Bank of Alexandria, Alexandria, Minnesota

Altura State Bank, Altura, Minnesota

Lakewood Bank, N.A., Baxter, Minnesota

First State Bank of Bayport, Bayport, Minnesota

First National Bank Bemidji, Bemidji, Minnesota

American National Bank of Minnesota, Brainerd, Minnesota

State Bank of Bricelyn, Bricelyn, Minnesota

State Bank of Chanhassen, Chanhassen, Minnesota

Farmers and Merchants State Bank of Clarkfield, Clarkfield, Minnesota

The First National Bank of Coleraine, Coleraine, Minnesota

Farmers State Bank of Dent, Dent, Minnesota

Northwestern Bank, N.A., Dilworth, Minnesota

Western National Bank, Duluth, Minnesota

Fidelity Bank, Edina, Minnesota

State Bank of Fairmont, Fairmont, Minnesota

Franklin State Bank, Franklin, Minnesota

Commerce Bank, Geneva, Minnesota

First National Bank of Gilbert, Gilbert, Minnesota

Eagle Bank, Glenwood, Minnesota

Yellow Medicine County Bank, Granite Falls, Minnesota

Northwestern State Bank of Hallock, Hallock, Minnesota

1st American State Bank of Minnesota, Hancock, Minnesota

First Southeast Bank, Harmony, Minnesota

Farmers State Bank of Hartland, Hartland, Minnesota

Merchants Bank, N.A., Hastings, Minnesota

Exchange State Bank of Hills, Hills, Minnesota

First Federal fsb, Hutchinson, Minnesota

United Prairie Bank—Jackson, Jackson, Minnesota

Community Bank Minnesota Valley, Jordan, Minnesota

CornerStone State Bank, Le Sueur, Minnesota

First Community Bank Lester Prairie, Lester Prairie, Minnesota

Center National Bank, Litchfield, Minnesota

State Bank of Loretto, Loretto, Minnesota

First National Bank of Luverne, Luverne, Minnesota

Northern Star Bank, Mankato, Minnesota

First National Bank of Montgomery, Montgomery, Minnesota

United Farmers & Merchants State Bank, Morris, Minnesota

St. Paul Postal Employees Credit Union, North St. Paul, Minnesota

Northland Community Bank, Northome, Minnesota

Citizens State Bank Norwood Young, Norwood Young America, Minnesota

Washington County Bank, N.A., Oakdale, Minnesota

Odin State Bank, Odin, Minnesota

Prinsburg State Bank, Prinsburg, Minnesota

Randall State Bank, Randall, Minnesota

Woodland Bank, Remer, Minnesota

Home Federal Savings Bank, Rochester, Minnesota

North Star Bank, Roseville, Minnesota

First State Bank of Rush City, Rush City, Minnesota

First Community Bank, Savage, Minnesota

Security State Bank of Sebeka, Sebeka, Minnesota

First Community Bank Silver Lake, Silver Lake, Minnesota

St. Anthony Park State Bank, St. Paul, Minnesota

Heartland State Bank, Storden, Minnesota

Peoples State Bank of Truman, Inc., Truman, Minnesota

Victoria State Bank, Victoria, Minnesota

Integrity Plus Bank, Wabasso, Minnesota

Centennial National Bank, Walker, Minnesota

The First National Bank of Walker, Walker, Minnesota

Citizens State Bank of Waverly, Waverly, Minnesota

Wells Federal Bank, fsb, Wells, Minnesota

First State Bank of Southwest, Worthington, Minnesota

Worthington Federal Savings Bank, F.S.B., Worthington, Minnesota

First Missouri National Bank, Brookfield, Missouri

Community First Bank, Butler, Missouri

BC National Banks, Butler, Missouri

Carroll County Trust Company, Carrollton, Missouri

Chillicothe State Bank, Chillicothe, Missouri

Investors National Bank, Chillicothe, Missouri

Boone National Savings & Loan Association, F.A., Columbia, Missouri

Concordia Bank of Concordia, Concordia, Missouri

The Citizens Bank of Edina, Edina, Missouri

First State Community Bank, Farmington, Missouri

Ozarks Federal Savings and Loan, Farmington, Missouri

The Callaway Bank, Fulton, Missouri

Northland National Bank, Gladstone, Missouri

Bank Northwest, Hamilton, Missouri

Hannibal National Bank, Hannibal, Missouri

Bank of Hayti, Hayti, Missouri

Eagle Bank & Trust Company of Missouri, Hillsboro, Missouri

The Bank of Houston, Houston, Missouri

Bank of Iberia, Iberia, Missouri

Jefferson City Highway Credit Union, Jefferson City, Missouri

Business Men's Assurance Company of America, Kansas City, Missouri

Generations Bank, Kansas City, Missouri

Kansas City Life Insurance Company, Kansas City, Missouri

Kennett National Bank, Kennett, Missouri

Bank of Kimberling City, Kimberling City, Missouri

Lamar Bank & Trust Company, Lamar, Missouri

The First National Bank, Lamar, Missouri

Central Bank, Lebanon, Missouri

Midwest Bank Centre, Lemay, Missouri

Linn State Bank, Linn, Missouri

Mercantile Bank of Louisiana, Louisiana, Missouri

First National Bank, Malden, Missouri

Community Bank of Marshall, Marshall, Missouri

Wood & Huston Bank, Marshall, Missouri

First National Bank of Audrain County, Mexico, Missouri

Peoples Bank of the Ozarks, Nixa, Missouri

First Midwest Bank of Piedmont, Piedmont, Missouri

Peoples Savings Bank of Rhineland, Rhineland, Missouri

The State Bank, Richmond, Missouri

Town & Country Bank, Salem, Missouri

Farmers State Bank, S/B, Schell City, Missouri

Third National Bank of Sedalia, Sedalia, Missouri

Senath State Bank, Senath, Missouri

The Community Bank of Shell Knob, Shell Knob, Missouri

Citizens National Bank of Springfield, Springfield, Missouri

Old Missouri National Bank, Springfield, Missouri

First State Bank of St. Charles, St. Charles, Missouri

Lindell Bank & Trust Company, St. Louis, Missouri

Pioneer Bank & Trust Company, St. Louis, Missouri

The PrivateBank, St. Louis, Missouri

Bank of Thayer, Thayer, Missouri

Quarry City Savings and Loan Association, Warrensburg, Missouri

First State Bank of Cando, Cando, North Dakota

Citizens State Bank—Midwest, Cavalier, North Dakota

Farmers State Bank, Elgin, North Dakota

State Bank of Fargo, Fargo, North Dakota

Union State Bank of Fargo, Fargo, North Dakota

U.S. Bank N.A., Fargo, North Dakota

Wells Fargo Bank, North Dakota, N.A., Fargo, North Dakota

State Bank and Trust of Kenmare, Kenmare, North Dakota

Farmers and Merchants State Bank, Langdon, North Dakota

United Community Bank of North Dakota, Leeds, North Dakota

First Western Bank & Trust, Minot, North Dakota

Lakeside State Bank, New Town, North Dakota

McKenzie County Bank, Watford City, North Dakota

First State Bank of Claremont, Claremont, South Dakota

BankStar Financial, Elkton, South Dakota

Farmers State Bank, Flandreau, South Dakota

Dakotaland Federal Credit Union, Huron, South Dakota

BankFirst, Sioux Falls, South Dakota

Home Federal Bank, Sioux Falls, South Dakota

F&M Bank, Watertown, South Dakota

Wilmot State Bank, Wilmot, South Dakota

First National Bank South Dakota, Yankton, South Dakota

Federal Home Loan Bank of Dallas—District 9

River Valley Bank, Russellville, Alabama

First Community Bank of Batesville, Batesville, Arkansas

Farmers Bank and Trust Company, Blytheville, Arkansas

First State Bank, Conway, Arkansas

Bank of Dardanelle, Dardanelle, Arkansas

First Financial Bank, El Dorado, Arkansas

Fordyce Bank & Trust Company, Fordyce, Arkansas

Forrest City Bank, N.A., Forrest City, Arkansas

Benefit Bank, Ft. Smith, Arkansas

First State Bank, Huntsville, Arkansas

Simmons First Bank of South Arkansas, Lake Village, Arkansas

Bank of Lockesburg, Lockesburg, Arkansas

Southern State Bank, Malvern, Arkansas

Bank of Mulberry, Mulberry, Arkansas

First National Bank at Paris, Paris, Arkansas

Delta Trust & Bank, Parkdale, Arkansas

Pine Bluff National Bank, Pine Bluff, Arkansas

Simmons First Bank of Northwest Arkansas, Rogers, Arkansas

The First National Bank of Springdale, Springdale, Arkansas

Red River Bank, Alexandria, Louisiana

East Federal Credit Union, Baton Rouge, Louisiana

Bank of Coushatta, Coushatta, Louisiana

St. Tammany Homestead Savings & Loan Association, Covington, Louisiana

City Savings Bank & Trust Company, DeRidder, Louisiana

Teche Federal Savings Bank, Franklin, Louisiana

Florida Parishes Bank, Hammond, Louisiana

Coastal Commerce Bank, Houma, Louisiana

Synergy Bank, Houma, Louisiana

LBA Savings Bank, Lafayette, Louisiana

Guaranty Savings and Homestead Association, Metairie, Louisiana

Mutual Savings and Loan Association, Metairie, Louisiana

Eureka Homestead, New Orleans, Louisiana

Hibernia Homestead & Savings Association, New Orleans, Louisiana

Peoples Bank & Trust Company of Pointe Coupee Parish, Inc., New Roads, Louisiana

Homestead Bank, Ponchatoula, Louisiana

Bank of West Baton Rouge, Port Allen, Louisiana

Richland State Bank, Rayville, Louisiana

Bank, of Ringgold, Ringgold, Louisiana

Ruston Building & Loan Association, Ruston, Louisiana

First Louisiana Bank, Shreveport, Louisiana

Bank of St. Francisville, St. Francisville, Louisiana

American Bank, Welsh, Louisiana

The Bank of Commerce, White Castle, Louisiana

Amory Federal Savings & Loan Association, Amory, Mississippi

Spirit Bank, Belmont, Mississippi

The Peoples Bank, Biloxi, Mississippi

Bank of Brookhaven, Brookhaven, Mississippi

The Cleveland State Bank, Cleveland, Mississippi

Commerce National Bank, Corinth, Mississippi

Bank of Holly Springs, Holly Springs, Mississippi

First National Bank of Pine Belt, Laurel, Mississippi

Community Bank, Meridian, Mississippi

Britton & Koontz First National Bank, Natchez, Mississippi

Senatobia Bank, Senatobia, Mississippi

Mechanics Bank, Water Valley, Mississippi

Wells Fargo Bank New Mexico, N.A., Albuquerque, New Mexico

International Bank, Raton, New Mexico

First National Bank of Ruidoso, Ruidoso, New Mexico

Tucumcari Federal Savings & Loan Association, Tucumcari, New Mexico

First State Bank, Athens, Texas

The First National Bank of Athens, Athens, Texas

Southwest Resource Credit Union, Baytown, Texas

First National Bank of Bridgeport, Bridgeport, Texas

Citizens State Bank, Chandler, Texas

Citizens State Bank, Cross Plains, Texas

Zavala County Bank, Crystal City, Texas

Dallas National Bank, Dallas, Texas

Dallas Teachers Credit Union, Dallas, Texas

Mercantile Bank & Trust, FSB, Dallas, Texas

Landmark Bank N.A., Denison, Texas

First United Bank, Dimmitt, Texas

First National Bank, Dublin, Texas

Union State Bank, Florence, Texas

Fort Worth National Bank, Fort Worth, Texas

Omni American Federal Credit Union, Fort Worth, Texas

First State Bank, Frankston, Texas

Security Bank, N.A., Garland, Texas

Community Bank, Granbury, Texas

First State Bank, Grapeland, Texas

Hebbronville State Bank, Hebbronville, Texas

Community National Bank, Hondo, Texas

Central Bank, Houston, Texas

MetroBank, N.A., Houston, Texas

Paradigm Bank Texas, Houston, Texas

Reliance Standard Life Insurance Company of Texas, Houston, Texas

Southwestern National Bank, Houston, Texas

Woodforest National Bank, Houston, Texas

Austin Bank, Texas N.A., Jacksonville, Texas

Texas State Bank, Joaquin, Texas

First State Bank, Keene, Texas

First-Nichols National Bank, Kenedy, Texas

First National Bank of Lake Jackson, Lake Jackson, Texas

First Federal Savings & Loan Association, Littlefield, Texas

PNB Financial, Lubbock, Texas

Mason National Bank, Mason, Texas

Inter National Bank, McAllen, Texas

Security State Bank, McCamey, Texas

Mineola Community Bank, S.S.B., Mineola, Texas

City National Bank, Mineral Wells, Texas

American National Bank of Mt. Pleasant, Mt. Pleasant, Texas

Commercial Bank of Texas, N.A., Nacogdoches, Texas

Western National Bank, Odessa, Texas

Orange Savings Bank, Orange, Texas

Lone Star National Bank, Pharr, Texas

Beal Bank, SSB, Plano, Texas

Security National Bank, Quanah, Texas

South Padre Bank, N.A., South Padre Island, Texas

Town and Country Bank, Stephenville, Texas

Extraco Banks, N.A., Temple, Texas

Heritage Savings Bank, SSB, Terrell, Texas

First National Bank of Bosque County, Valley Mills, Texas

FirstCapital Bank, ssb, Victoria, Texas

Community Bank & Trust, Waco, Texas

First National Bank of Central Texas, Waco, Texas

Fannin Bank, Windom, Texas

Federal Home Loan Bank of Topeka—District 10

Citywide Bank of Denver, Aurora, Colorado

Commerce Bank, Aurora, Colorado

Premier Members Federal Credit Union, Boulder, Colorado

First Charter Federal Credit Union, Colorado Springs, Colorado

First National Bank, Cortez, Colorado

Del Norte Federal Savings & Loan Association, Del Norte, Colorado

Colorado United Credit Union, Denver, Colorado

Denver Police Federal Credit Union, Denver, Colorado

Premier Bank, Denver, Colorado

Bank of the San Juans, Durango, Colorado

FirstBank of Evergreen, Evergreen, Colorado

Fort Morgan State Bank, Fort Morgan, Colorado

Bank of Grand Junction, Grand Junction, Colorado

FirstBank of Greeley, Greeley, Colorado

First National Bank, Julesberg, Colorado

Kit Carson State Bank, Kit Carson, Colorado

The State Bank—La Junta, La Junta, Colorado

First National Bank of Lake City & Creede, Lake City, Colorado

Home State Bank, Loveland, Colorado

First National Bank of Paonia, Paonia, Colorado

FirstBank of Parker, Parker, Colorado

The First National Bank of Stratton, Stratton, Colorado

First National Bank in Belleville, Belleville, Kansas

Bank of Commerce, Chanute, Kansas

Home Savings Bank, Chanute, Kansas

Farmers and Merchants Bank, Colby, Kansas

Legacy Bank, Colwich, Kansas

The State Bank of Conway Springs, Conway Springs, Kansas

Farmers and Drovers Bank, Council Grove, Kansas

Citizens State Bank & Trust Company, Ellsworth, Kansas

State Bank of Fredonia, Fredonia, Kansas

Gardner National Bank, Gardner, Kansas

Community Bank of the Midwest, Great Bend, Kansas

Halstead Bank, Halstead, Kansas

Emprise Bank, NA, Hays, Kansas

First National Bank of Hoxie, Hoxie, Kansas

Security Bank of Kansas City, Kansas City, Kansas

Douglas County Bank, Lawrence, Kansas

First National Bank and Trust of Leavenworth, Leavenworth, Kansas

Horizon National Bank, Leawood, Kansas

Western National Bank, Lenexa, Kansas

Farmers National Bank of Lincoln, Lincoln, Kansas

The Lyons State Bank, Lyons, Kansas

Farmers State Bank, McPherson, Kansas

Mission Bank, Mission, Kansas

The Mulvane State Bank, Mulvane, Kansas

Farmers State Bank, Oakley, Kansas

First National Bank of Olathe, Olathe, Kansas

First Kansas Federal Savings Bank, Osawatomie, Kansas

Valley View State Bank, Overland Park, Kansas

Citizens State Bank, Paola, Kansas

University National Bank, Pittsburg, Kansas

Sedgwick State Bank, Sedgwick, Kansas

TriCentury Bank, Simpson, Kansas

The First National Bank and Trust, St. John, Kansas

First Bank, Sterling, Kansas

Valley State Bank, Syracuse, Kansas

The Tampa State Bank, Tampa, Kansas

Community National Bank, Topeka, Kansas

Kaw Valley State Bank and Trust Company, Topeka, Kansas

Chisholm Trail State Bank, Wichita, Kansas

INTRUST Bank, National Association, Wichita, Kansas

The State Bank, Winfield, Kansas

Bank of Wyandotte, Wyandotte, Kansas

Bank of the Valley, Bellwood, Nebraska

Bank of Bennington, Bennington, Nebraska

Washington County Bank, Blair, Nebraska

Custer Federal Savings & Loan Association, Broken Bow, Nebraska

First Central Bank, Cambridge, Nebraska

Citizens State Bank, Carleton, Nebraska

Deeuel County State Bank, Chappell, Nebraska

First Bank and Trust Company, Cozad, Nebraska

Jefferson County Bank, Daykin, Nebraska

First National Bank in Exeter, Exeter, Nebraska

Farnam Bank, Farnam, Nebraska

American National Bank of Fremont, Fremont, Nebraska

First State Bank, Fremont, Nebraska

Gothenburg State Bank and Trust Company, Gothenburg, Nebraska

Henderson State Bank, Henderson, Nebraska

First State Bank of Enders/Imperial, Imperial, Nebraska

Kearney State Bank and Trust Company, Kearney, Nebraska

Farmers State Bank, Maywood, Nebraska

First Central Bank McCook, National Association, McCook, Nebraska

Farmers and Merchants Bank, Milligan, Nebraska

Centennial Bank, Omaha, Nebraska

First National Bank of Omaha, Omaha, Nebraska

Nebraska State Bank of Omaha, Omaha, Nebraska

Potter State Bank of Potter, Potter, Nebraska

Peoples Webster City Bank, Red Cloud, Nebraska

First State Bank, Shelton, Nebraska

Hometown Bank, Sumner, Nebraska

Sutton State Bank, Sutton, Nebraska

First National Bank of Syracuse, Syracuse, Nebraska

CerescoBank, Wahoo, Nebraska

Citizens Bank of Ada, Ada, Oklahoma

First National Bank in Altus, Altus, Oklahoma

Stockmans Bank, Altus, Oklahoma

The First National Bank and Trust Company of Broken Arrow, Broken Arrow, Oklahoma

Bank of Commerce, Chelsea, Oklahoma

Farmers Exchange Bank, Cherokee, Oklahoma

First National Bank and Trust Company, Chickasha, Oklahoma

1st Bank Oklahoma, Claremore, Oklahoma

The First National Bank in Durant, Durant, Oklahoma

American Bank & Trust, Edmond, Oklahoma

Bank Elgin, N.A., Elgin, Oklahoma

Bank of Western Oklahoma, Elk City, Oklahoma

Liberty Federal Savings Bank, Enid, Oklahoma

Fairview Savings and Loan Association, Fairview, Oklahoma

Oklahoma State Bank, Guthrie, Oklahoma

City National Bank & Trust Company, Guymon, Oklahoma

The Bank of Kremlin, Kremlin, Oklahoma

Exchange National Bank of Moore, Moore, Oklahoma

The Morris State Bank, Morris, Oklahoma

Bank of Nichols Hills, Oklahoma City, Oklahoma

First Security Bank and Trust Company, Oklahoma City, Oklahoma

Oklahoma Educators Credit Union, Oklahoma City, Oklahoma

NBC Bank, Pawhuska, Oklahoma

Osage Federal Savings and Loan Association, Pawhuska, Oklahoma

Security Bank, , NA, Pawnee, Oklahoma

Exchange Bank and Trust Company, Perry, Oklahoma

Central Bank of Poteau, Poteau, Oklahoma

First Pryority Bank, Pryor, Oklahoma

Peoples Bank & Trust Company, Ryan, Oklahoma

InterBank, N.A., Sayre, Oklahoma

Southwest State Bank, Sentinel, Oklahoma

Advantage Bank, Spencer, Oklahoma

Bank of Commerce, Stilwell, Oklahoma

American Bank and Trust, Tulsa, Oklahoma

Bank South, NA, Tulsa, Oklahoma

Sooner State Bank, Tuttle, Oklahoma

Bank of Union, Union City, Oklahoma

First State Bank, Valliant, Oklahoma

Citizens' Bank, Velma, Oklahoma

First State Bank, Watonga, Oklahoma

Peoples Bank, Westville, Oklahoma

Yukon National Bank, Yukon, Oklahoma

Federal Home Loan Bank of San Francisco—District 11

Century Bank, Scottsdale, Arizona

Placer Sierra Bank, Auburn, California

Los Angeles National Bank, Buena Park, California

Burbank City Employees Federal Credit Union, Burbank, California

Western Security Bank, N.A., Burbank, California

Pan American Bank, FSB, Burlingame, California

Pacific Trust Bank, FSB, Chula Vista, California

Pacific Trust Federal Credit Union, Chula Vista, California

Clovis Community Bank, Clovis, California

Mt. Diablo National Bank, Danville, California

Rockwell Federal Credit Union, Downey, California

Hawthorne Savings, FSB, El Segundo, California

Centennial Bank, Fountain Valley, California

Murphy Bank, Fresno, California

Kerman State Bank, Kerman, California

Eldorado Bank, Laguna Hills, California

Marathon National Bank, Los Angeles, California

USC Federal Credit Union, Los Angeles, California

Yosemite Bank, Mariposa, California

Trust Bank, Monterey Park, California

Downey Savings and Loan Association, F.A., Newport Beach, California

American Commercial Bank, Oxnard, California

Kaiser Permanante Federal Credit Union, Pasadena, California

Heritage Oaks Bank, Paso Robles, California

Rancho Santa Fe National Bank, Rancho Santa Fe, California

Tehama Bank, Red Bluff, California

Redlands Centenial Bank, Redlands, California

Provident Central Credit Union, Redwood City, California

Provident Bank, Riverside, California

The Bank of Hemet, Riverside, California

First Federal Credit Union, Sacramento, California

River City Bank, Sacramento, California

Business Bank of California, San Bernardino, California

Neighborhood National Bank, San Diego, California

San Diego National Bank, San Diego, California

Bank of the Orient, San Francisco, California

Five Star Bank, San Francisco, California

Pacific Coast Bankers' Bank, San Francisco, California

Pacific IBM Employees Credit Union, San Jose, California

Tamalpais Bank, San Rafael, California

First National Bank of Central California, Santa Barbara, California

Santa Cruz Community Credit Union, Santa Cruz, California

Los Padres Bank, Solvang, California

Sonoma Valley Bank, Sonoma, California

Bank of Stockton, Stockton, California

South Bay Bank, Torrance, California

Sierra West Bank, Truckee, California

First Security Bank of California, NA, West Covina, California

Universal Bank, West Covina, California

Quaker City Bank, Whittier, California

Feather River State Bank, Yuba City, California

Business Bank of Nevada, Las Vegas, Nevada

Federal Home Loan Bank of Seattle—District 12

Credit Union 1, Anchorage, Alaska

Citizens Security Bank (Guam), Inc., Agana, Guam

FirstBank Northwest, Lewiston, Idaho

Idaho Central Credit Union, Pocatello, Idaho

Panhandle State Bank, Sandpoint, Idaho

First Citizens Bank of Billings, Billings, Montana

First Citizens Bank of Butte, Butte, Montana

Dutton State Bank, Dutton, Montana

Heritage Bank, Fort Benton, Montana

Valley Bank of Glasgow, Glasgow, Montana

1st Liberty Federal Credit Union, Great Falls, Montana

Independence Bank, Havre, Montana

First National Bank of Lewistown, Lewistown, Montana

Empire Bank, Livingston, Montana

Community Bank-Missoula, Inc., Missoula, Montana

First Security Bank of Missoula, Missoula, Montana

Ronan State Bank, Ronan, Montana

Basin State Bank, Stanford, Montana

Pioneer Bank, A F.S.B., Baker City, Oregon

Evergreen FS & LA, Grants Pass, Oregon

Bank of Eastern Oregon, Heppner, Oregon

Klamath First FS & LA, Klamath Falls, Oregon

South Valley Bank and Trust, Klamath Falls, Oregon

American Pacific Bank, Portland, Oregon

Bank of America Oregon, N.A., Portland, Oregon

USU Community Credit Union, Logan, Utah

BMW Bank of North America, Salt Lake City, Utah

Franklin Templeton Bank & Trust, F.S.B., Salt Lake City, Utah

Washington Mutual Bank, Salt Lake City, Utah

Valley Bank, Auburn, Washington

American Marine Bank, Bainbridge Island, Washington

Charter Bank, Bellevue, Washington

Fife Commercial Bank, Fife, Washington

The Bank of Washington, Lynnwood, Washington

Whidbey Island Bank, Oak Harbor, Washington

Olympia Federal Savings & Loan Association, Olympia, Washington

Twin County Credit Union, Olympia, Washington

First FS & LA of Port Angeles, Port Angeles, Washington

Riverview Community Bank, Riverview, Washington

Asia Europe Americas Bank, Seattle, Washington

Key Bank, N.A., Seattle, Washington

Northwest International Bank, Seattle, Washington

Seattle Savings Bank, Seattle, Washington

Washington Mutual Bank, Seattle, Washington

Western United Life Assurance Company, Seattle, Washington

Simpson Community Federal Credit Union, Shelton, Washington

Farmers & Merchants Bank of Rockford, Spokane, Washington

Old Standard Life Insurance Company, Spokane, Washington

Yakima Federal Savings and Loan Association, Yakima, Washington

American National Bank of Rock Springs, Rock Springs, Wyoming

The Rock Springs National Bank, Rock Springs, Wyoming

Tri-County Bank, Torrington, Wyoming

II. Public Comments

To encourage the submission of public comments on the community support performance of Bank members, on or before January 31, 2003, each Bank will notify its Advisory Council and nonprofit housing developers, community groups, and other interested parties in its district of the members selected for community support review in the 2002-03 fourth quarter review cycle. 12 CFR 944.2(b)(2)(ii). In reviewing a member for community support compliance, the Finance Board will consider any public comments it has received concerning the member. 12 CFR 944.2(d). To ensure consideration by the Finance Board, comments concerning the community support performance of members selected for the 2002-03 fourth quarter review cycle must be delivered to the Finance Board on or before the March 3, 2003 deadline for submission of Community Support Statements. By the Federal Housing Finance Board.

Dated: January 9, 2003.
Arnold Intrater,
General Counsel.

[FR Doc. 03-785 Filed 1-16-03; 8:45 am]

BILLING CODE 6725-01-P